ENVIRONMENTAL PROTECTION AGENCY

40 CFR Part 52

[EPA-R04-OAR-2018-0838; FRL-9993-74-Region 4]

Air Plan Approval; TN; Volatile Organic Compounds Definition Rule Revision for Chattanooga

AGENCY: Environmental Protection Agency (EPA).

ACTION: Proposed rule.

SUMMARY: The Environmental Protection Agency (EPA) is proposing to approve a revision to the Chattanooga portion of the Tennessee State Implementation Plan (SIP), provided by the Tennessee Department of Environment and Conservation on behalf of the Chattanooga-Hamilton County Air Pollution Control Bureau through a letter dated September 12, 2018. The revision makes changes to the definition of volatile organic compounds (VOC) that are consistent with changes to state and federal regulations. EPA is proposing to approve the changes because they are consistent with the Clean Air Act (CAA or Act).

DATES: Comments must be received on or before June 19, 2019.

ADDRESSES: Submit your comments, identified by Docket ID No. EPA-R04-OAR-2018-0838 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Evan Adams of the Air Regulatory Management Section, Air Planning and Implementation Branch, Air and Radiation Division, U.S. Environmental Protection Agency, Region 4, 61 Forsyth Street SW, Atlanta, Georgia 30303-8960. The telephone number is (404) 562-9009. Mr. Adams can also be reached via electronic mail at adams.evan@epa.gov.

SUPPLEMENTARY INFORMATION:

I. Background

Tropospheric ozone, commonly known as smog, occurs when VOC and nitrogen oxides (NOX) react in the atmosphere in the presence of sunlight. Because of the harmful health effects of ozone, EPA and state governments limit the amount of VOC and NOX that can be released into the atmosphere. VOC are those compounds of carbon (excluding carbon monoxide, carbon dioxide, carbonic acid, metallic carbides or carbonates, and ammonium carbonate) that form ozone through atmospheric photochemical reactions. Compounds of carbon (or organic compounds) have different levels of reactivity; they do not react at the same speed or do not form ozone to the same extent.

Section 302(s) of the CAA specifies that EPA has the authority to define the meaning of “VOC,” and hence what compounds shall be treated as VOC for regulatory purposes. It has been EPA's policy that compounds of carbon with negligible reactivity need not be regulated to reduce ozone and should be excluded from the regulatory definition of VOC. See 42 FR 35314 (July 8, 1977), 70 FR 54046 (September 13, 2005). EPA determines whether a given carbon compound has “negligible” reactivity by comparing the compound's reactivity to the reactivity of ethane. EPA lists these compounds in its regulations at 40 CFR 51.100(s) and excludes them from the definition of VOC. The chemicals on this list are often called “negligibly reactive.” EPA may periodically revise the list of negligibly reactive compounds to add or delete compounds.

In this rulemaking, EPA is proposing action to approve Chattanooga's SIP revision which amends the definition of “Volatile Organic Compounds” in the Chattanooga City Code, Part II, Chapter 4, Section 4-2, Definitions. This SIP revision amends paragraphs 1 and 2 to make the Chattanooga portion consistent with changes to Federal and other similar SIP-approved regulations.1 2

¹ EPA approved similar revisions to the Tennessee SIP on April 13, 2006, and September 26, 2018. See 71 FR 19124 and 83 FR 48547, respectively.

² With respect to all of the compounds added to those excluded from the Chattanooga SIP's definition of VOC, EPA has issued final rules revising the Federal definition of VOC to exclude the compounds as negligibly reactive compounds: EPA added 1,1,1,2,2,3,4,5,5,5-decafluoro-3-methoxy-4-trifluoromethyl-pentane (HFE-7300) on January 18, 2007. See 72 FR 2193. EPA added propylene carbonate and dimethyl carbonate on January 21, 2009. See 74 FR 3437. EPA added trans-1,3,3,3-tetrafluoropropene on June 22, 2012. See 77 FR 37610. EPA added HCF2OCF2H (also known as HFE-134), HCF2OCF2OCF2H (also known as HFE-236cal2), HCF2OCF2CF2OCF2H (also known as HFE-338pcc13), and HCF2OCF2OCF2CF2OCF2 H (also known as H-Galden 1040X or H-Galden ZT 130 (or 150 or 180)) on February 12, 2013. See 78 FR 923. EPA added trans-1-chloro-3,3,3-trifluoroprop-1-ene on August 28, 2013. See 78 FR 53029. EPA added 2,3,3,3-tetrafluoropropene on October 22, 2013. See 78 FR 62451. EPA added 2-amino-2-methyl-1-propanol on March 27, 2014. See 79 FR 17037.

II. Analysis of State's Submittal

On September 12, 2018, Tennessee submitted a SIP revision to EPA for review and approval amending the definition of VOC found in Part II, Chapter 4, Section 4-2, of the Chattanooga Code.³ Specifically, the revision adds the following compounds to the list of negligibly reactive compounds to be consistent with additions to federal and other similar SIP-approved regulations: 1,1,1,2,2,3,4,5,5,5-decafluoro-3-methoxy-4-(trifluoromethyl)pentane (HFE-7300); propylene carbonate; dimethyl carbonate; trans-1,3,3,3-tetrafluoropropene; HCF2OCF2H (HFE-134); HCF2OCF2OCF2H (HFE-236cal2); HCF2OCF2CF2OCF2H (HFE-338pcc13); HCF2OCF2OCF2CF2OCF2H (H-Galden 1040x or H-Galden ZT 130 (or 150 or 180)); trans-1-chloro-3,3,3-trifluoroprop-1-ene; 2,3,3,3-tetrafluoropropene; and 2-amino-2-methyl-1-propanol. These compounds are excluded from the VOC definition on the basis that each of these compounds makes a negligible contribution to tropospheric ozone formation. EPA is proposing to approve this revision because it is consistent with revisions to the Federal definition of VOC at 40 CFR 51.100(s). EPA is also proposing to approve this revision because, as noted in Section I, above, it is consistent with other similar SIP-approved regulations. The revision also includes the following minor, administrative changes: Spelling corrections to certain compounds already listed in paragraph 1 and a spelling correction that changes “negligibility” to “negligibly” in paragraph 2 of Part II, Chapter 4, Section 4-2, of the Chattanooga Code.

³ EPA notes that the Agency received the SIP revision on September 18, 2018, along with other SIP revisions from Tennessee. EPA will consider the other SIP revisions in a separate rulemaking.

Pursuant to CAA section 110(l), the Administrator shall not approve a revision of a plan if the revision would interfere with any applicable requirement concerning attainment and reasonable further progress (as defined in CAA section 171), or any other applicable requirement of the Act. The County's addition of exemptions from the definition of VOC in paragraph 1 in the Chattanooga City Code, Part II, Chapter 4, Section 4-2, Definitions, of the are approvable under section 110(l) because they reflect changes to federal regulations based on findings that the aforementioned compounds are negligibly reactive and make a negligible contribution to tropospheric ozone formation.

III. Incorporation by Reference

In this document, EPA is proposing to include in a final EPA rule regulatory text that includes incorporation by reference. In accordance with requirements of 1 CFR 51.5, EPA is proposing to incorporate by reference Part II, Chapter 4, Section 4-2, of the Chattanooga City Code, state effective January 23, 2017, which revised the definition of VOC so that it better aligns with the federal regulations. EPA has made, and will continue to make, these materials generally available through www.regulations.gov and at the EPA Region 4 office (please contact the person identified in the FOR FURTHER INFORMATION CONTACT section of this preamble for more information).

IV. Proposed Action

EPA is proposing to approve the aforementioned changes to the Chattanooga portion of the Tennessee SIP because the changes are consistent with section 110 of the CAA and meet the regulatory requirements of the Act. EPA views these changes as being consistent with the CAA and does not believe that these changes will result in a change in emissions.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Ozone, Volatile organic compounds.

Authority: 42 U.S.C. 7401 et seq.

Dated: May 6, 2019.
Mary S. Walker,
Acting Regional Administrator, Region 4.

[FR Doc. 2019-10346 Filed 5-17-19; 8:45 am]

BILLING CODE 6560-50-P